DEPARTMENT OF COMMERCE

National Oceanic and Atmospheric Administration

RIN 0648-XF22

Marine Mammals; File No. 775-1875

AGENCY: National Marine Fisheries Service (NMFS), National Oceanic and Atmospheric Administration (NOAA), Commerce.

ACTION: Notice; issuance of permit.

SUMMARY: Notice is hereby given that the Northeast Fisheries Science Center (NEFSC), National Marine Fisheries Service [Dr. Nancy Thompson, Responsible Party], 166 Water Street, Woods Hole, MA 02543, has been issued a permit to conduct research on, and import/export specimens collected from, marine mammals.

ADDRESSES: The permit and related documents are available for review upon written request or by appointment in the following offices:

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9300; fax (978)281-9394; and

Southeast Region, NMFS, 263 13th Avenue South, Saint Petersburg, Florida 33701; phone (727)824-5312; fax (727)824-5309.

FOR FURTHER INFORMATION CONTACT: Brandy Belmas or Carrie Hubard, (301)713-2289.

SUPPLEMENTARY INFORMATION: On January 10, 2007, notice was published in the Federal Register (72 FR 1218) that a request for a scientific research permit to take seven species of baleen whales, twenty-five species/stocks of odontocetes, and four species of pinnipeds, including the following endangered species: sperm whale (Physeter macrocephalus), sei whale (Balaenoptera borealis), blue whale (B. musculus), fin whale (B. physalus), humpback whale (Megaptera novaeangliae), and right whale (Eubalaena glacialis), had been submitted by the above-named organization. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

This research permit authorizes aerial and vessel surveys to be conducted including close approach, photo-id, and incidental harassment of cetaceans. Level A activities include biopsy sampling and suction-cup tagging, which will be conducted on all age classes with the exception of neonates. Additionally, researchers are authorized to capture, biological sample, incidentally harass, and release four species of pinnipeds. Pinniped research would be conducted on all age classes including pups. The study area for this permit includes waters within or proximal to the U.S. Exclusive Economic Zone from Maine to Florida. Finally, researchers are authorized to import and export cetacean and pinniped specimens (including soft and hard tissue, blood, extracted DNA, whole dead animals, etc.) to/from any country.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Dated: January 22, 2008.
P. Michael Payne,
Chief, Permits, Conservation and Education Division, Office of Protected Resources, National Marine Fisheries Service.

[FR Doc. E8-1431 Filed 1-25-08; 8:45 am]

BILLING CODE 3510-22-S